DEPARTMENT OF COMMERCE

International Trade Administration

[A-570-832]

Pure Magnesium From the People's Republic of China: Rescission of New Shipper Review

AGENCY: Import Administration, International Trade Administration, Department of Commerce.

SUMMARY: In response to a request from Tianjin Xianghaiqi Resources Import & Export Trade Co., Ltd. (“TXR”), the Department of Commerce (“Department”) initiated a new shipper review of the antidumping duty order on pure magnesium from the People's Republic of China (“PRC”) for the period of review (“POR”) May 1, 2008, through April 30, 2009.¹ On August 3, 2009, TXR submitted a letter to the Department withdrawing its request for the new shipper review.² Accordingly, we are rescinding the new shipper review with respect to TXR.

¹ See Pure Magnesium from the People's Republic of China: Initiation of Antidumping Duty New Shipper Review, 74 FR 31251 (June 30, 2009).

² See letter from TXR, “Pure Magnesium from the People's Republic of China—Withdrawal of New Shipper Review,” dated August 3, 2009.

Background

On May 21, 2009, the Department received a timely request from TXR in accordance with section 751(a)(2)(B)(i) of the Tariff Act of 1930 as amended (“the Act”), and 19 CFR 351.214(C) for a new shipper review of the antidumping order on pure magnesium from the PRC from TXR. On June 30, 2009, the Department initiated a new shipper review of shipments of pure magnesium from the PRC exported by TXR during the POR ³ because TXR met all statutory and regulatory requirements for the new shipper review. On August 3, 2009, TXR withdrew its request for a new shipper review.⁴

³ See Pure Magnesium from the People's Republic of China: Initiation of Antidumping Duty New Shipper Review, 74 FR 31251 (June 30, 2009).

⁴ See letter from TXR, “Pure Magnesium from the People's Republic of China—Withdrawal of New Shipper Review,” dated August 3, 2009.

Rescission of New Shipper Review

Section 351.214(f)(1) of the Department's regulations provides that the Department may rescind a new shipper review if the party that requested the review withdraws its request for review within 60 days of the date of publication of the notice of initiation of the requested review. In this instance, the requesting party withdrew its request within 60 days of our notice of initiation. Based upon the above, we are rescinding the new shipper review of the antidumping duty order on pure magnesium from the PRC with respect to TXR. As the Department is rescinding this new shipper review, we are not calculating a company-specific rate for TXR, and will continue to treat TXR as part of the PRC-wide entity.

Notifications

Because TXR is still under review as part of the PRC-wide entity in the ongoing administrative review, the Department will not order liquidation of entries for TXR. The Department intends to issue liquidation instructions for the PRC-wide entity which will cover any entries by TXR, 15 days after publication of the final results of the ongoing administrative review covering the same period as this new shipper review. This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (“APO”) of their responsibility concerning the return or destructions of proprietary information disclosed under APO in accordance with 19 CFR 351.305(a). Timely written notification of the return/destruction of APO materials or conversion to judicial protective order is hereby requested. Failure to comply with the regulations and terms of an APO is a violation which is subject to sanction.

We are issuing and publishing this determination and notice in accordance with section 777(i) of the Act and 19 CFR 351.214(f)(3).

Dated: September 21, 2009.
John M. Andersen,
Acting Deputy Assistant Secretary for Antidumping and Countervailing Duty Operations.

[FR Doc. E9-23370 Filed 9-25-09; 8:45 am]

BILLING CODE 3510-DS-P